DEPARTMENT OF AGRICULTURE

Submission for OMB Review; Comment Request

February 28, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 4, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Fourth Access, Participation, Eligibility, and Certification Study (APEC IV).

OMB Control Number: 0584-0530.

Summary of Collection: USDA's Food and Nutrition Service (FNS) depends upon the APEC study series to provide reliable, national estimates of errors and improper payments made to school districts in which the National School Lunch Program (NSLP) and School Breakfast Program (SBP) are operated. This is the fourth study in the APEC series and it will provide the required information for school year (SY) 2023-2024.

The Payment Integrity Information Act of 2019 (PIIA) requires that FNS identify and reduce improper payments in these programs, including both underpayments and overpayments. In order to comply with the law, programs must have a statistically valid rate of improper payment below 10 percent, and programs out of compliance with PIIA are subject to increased scrutiny and reporting requirements.

Need and Use of the Information: The specific study objectives of APEC IV are: Objective 1: Generate a national estimate of the annual amount of improper payments in the National School Lunch Program and School Breakfast Program based on SY 2023-2024 by replicating and refining the methodology used in prior APEC studies. Objective 2: Provide a robust examination of the relationship between error rates and student (household), school, and school food authority (SFA) characteristics. Objective 3: Conduct two sub-studies testing the effect that data collection methods have on responses.

APEC IV will collect data to measure certification, aggregation, and meal claiming errors via in-person visits to SFAs and schools and surveys of SFA directors and households. Data collection will include (a) abstraction from income eligibility applications and categorical eligibility records; (b) abstraction of meal count and claiming records from SFAs, schools, States, and FNS administrative data; (c) an online survey of SFA directors; (d) meal observations in schools; and (e) a telephone survey of households.

Description of Respondents: Individuals/Households, State, Local, or Tribal government.

Number of Respondents: 13,068.

Frequency of Responses: Reporting: Once, Annually.

Total Burden Hours: 21,013.

Ruth Brown,
Departmental Information Collection Clearance Officer.

[FR Doc. 2022-04478 Filed 3-2-22; 8:45 am]

BILLING CODE 3410-30-P